DEPARTMENT OF HEALTH AND HUMAN SERVICES

National Institutes of Health

National Institute on Minority Health and Health Disparities; Cancellation of Meeting

Notice is hereby given of a change in the meeting of the National Institute on Minority Health and Health Disparities Special Emphasis Panel, June 23, 2025, 10:00 a.m. to June 27, 2025, 6:00 p.m., National Institutes of Health, NIMHD, DEM II, Suite 800, 6707 Democracy Boulevard, Bethesda, MD 20892 which was published in the Federal Register on April 9, 2025, FR Doc 2025-06092, 90 FR 15255.

This meeting notice is to cancel the meeting scheduled June 18, 2025. This meeting will not be rescheduled.

Dated: May 13, 2025.
Bruce A. George,
Program Analyst, Office of Federal Advisory Committee Policy.

[FR Doc. 2025-08748 Filed 5-15-25; 8:45 am]

BILLING CODE 4140-01-P